GENERAL SERVICES ADMINISTRATION

[Notice-Q-2025-01; Docket No. 2025-0002; Sequence No. 14]

Federal Secure Cloud Advisory Committee Notification of Upcoming Meeting

AGENCY: Federal Acquisition Service (Q), General Services Administration (GSA).

ACTION: Meeting notice.

SUMMARY: As stipulated by the Federal Advisory Committee Act (FACA), as amended, GSA is hereby giving notice of one (1) open public meeting of the Federal Secure Cloud Advisory Committee (FSCAC). Information on attending and providing public comment is under the SUPPLEMENTARY INFORMATION section.

DATES: The open public meeting will be held virtually on Thursday, August 14, 2025, from 1:30 p.m. to 4:00 p.m., Eastern Time (ET).

ADDRESSES: The meeting will be accessible via webcast. Registration is required and will be made available prior to the meeting online at https://gsa.gov/fscac, by selecting the “Federal Secure Cloud Advisory Committee meetings” tab on the left, and then selecting the “August 14, 2025—Virtual” meeting accordion in order to view all meeting materials, agendas, and registration information. Registrants will receive the webcast information before the meeting.

FOR FURTHER INFORMATION CONTACT: Ryan Hoesing, Designated Federal Officer (DFO), FSCAC, GSA, 202-577-1938, fscac@gsa.gov.

SUPPLEMENTARY INFORMATION:

Background

GSA, in compliance with the FedRAMP Authorization Act of 2022 (the Act), established the FSCAC, a statutory advisory committee in accordance with the provisions of FACA, as amended (5 U.S.C. 10). The Federal Risk and Authorization Management Program (FedRAMP) within GSA is responsible for providing a standardized, reusable approach to security assessment and authorization for cloud computing products and services that process unclassified information used by agencies.

The FSCAC will provide advice and recommendations to the Administrator of GSA and the FedRAMP Director, the FedRAMP Board, and agencies on technical, financial, programmatic, and operational matters regarding the secure adoption of cloud computing products and services. The FSCAC will ensure effective and ongoing coordination of agency adoption, use, authorization, monitoring, acquisition, and security of cloud computing products and services to enable agency mission and administrative priorities. The purposes of the Committee are:

• To examine the operations of FedRAMP and determine ways that authorization processes can continuously be improved, including the following:

○ Measures to increase agency reuse of FedRAMP authorizations.

○ Proposed actions that can be adopted to reduce the burden, confusion, and cost associated with FedRAMP authorizations for cloud service providers (CSPs).

○ Measures to increase the number of FedRAMP authorizations for cloud computing products and services offered by small businesses concerns (as defined by section 3(a) of the Small Business Act (15 U.S.C. 632(a)).

○ Proposed actions that can be adopted to reduce the burden and cost of FedRAMP authorizations for agencies.

• Collect information and feedback on agency compliance with, and implementation of, FedRAMP requirements.

• Serve as a forum that facilitates communication and collaboration among the FedRAMP stakeholder community.

The FSCAC will meet no fewer than three (3) times a calendar year. Meetings shall occur as frequently as needed, called, and approved by the DFO.

Purpose of the Meeting and Agenda

The August 14, 2025, public meeting will be dedicated to advice and recommendations for reducing the burden and cost of managing Plans of Action and Milestones (POA&Ms) for cloud services and agencies and to develop recommendations for an updated standard. FSCAC is to propose key elements of this standard by addressing at least the following questions:

1. What are the major pain points with the current POA&M implementation for CSPs and agencies?

2. What are the security gaps and increased risks (including missed opportunities) that result from the current model?

3. What are the benefits of the current model?

4. What would a new set of POA&M requirements for FedRAMP that addresses the major pain points, and gaps while maintaining or increasing the benefits of such a process for all parties look like?

Members of the public will have the opportunity to provide oral public comments during this meeting, and may also submit public comments in writing prior to this meeting by completing the public comment form on our website, https://gsa.gov/fscac. The meeting agenda will be posted on https://gsa.gov/fscac prior to the meeting and can be accessed by selecting the “Federal Secure Cloud Advisory Committee meetings” tab on the left, and then selecting the “August 14, 2025—Virtual” meeting accordion in order to view all meeting materials, agendas, and registration information.

Meeting Attendance

This virtual meeting is open to the public. The meeting materials, registration information, and agendas for the meetings will be made available prior to the meetings online at https://gsa.gov/fscac,by selecting the “Federal Secure Cloud Advisory Committee meetings” tab on the left, and then selecting the “August 14, 2025—Virtual” meeting accordion. Registration for attending the virtual meeting on Thursday, August 14, 2025, is highly encouraged by 5:00 p.m. EST, on Monday, August 11, 2025. After registration, individuals will receive instructions on how to attend the meeting via email.

For information on services for individuals with disabilities, or to request accommodation for a disability, please email the FSCAC staff at FSCAC@gsa.gov at least 10 days prior to the meeting date. Live captioning will be provided virtually.

Public Comment

Members of the public attending will have the opportunity to provide oral public comment during the FSCAC meeting. Written public comments can be submitted at any time by completing the public comment form on our website, https://gsa.gov/fscac, located under the “Get Involved” section. All written public comments will be provided to FSCAC members in advance of the meeting if received by Wednesday, August 6, 2025, for the Thursday, August 14, 2025, meeting.

Stephanie Shutt,
Chief of Staff, Federal Acquisition Service, General Services Administration.

[FR Doc. 2025-14078 Filed 7-24-25; 8:45 am]

BILLING CODE 6820-34-P